DEPARTMENT OF COMMERCE

United States Patent and Trademark Office

[Docket No. PTO-P-2014-0013]

Request for Comments and Notice of Roundtable Event on the Use of Crowdsourcing and Third-Party Preissuance Submissions To Identify Relevant Prior Art

AGENCY: United States Patent and Trademark Office, Commerce.

ACTION: Notice of public meeting; request for comments.

SUMMARY: The United States Patent and Trademark Office (Office) is hosting a roundtable event to solicit public opinions regarding the use of crowdsourcing and third-party preissuance submissions to identify relevant prior art and enhance the quality of examination as well as the quality of issued patents. Members of the public are invited to participate. The roundtable will provide a forum for an informal discussion of the topics identified in this notice. Written comments in response to these topics also are requested.

DATES: Event: The roundtable event will be held on April 10, 2014, beginning at 12:30 p.m. Eastern Daylight Time (EDT), and ending at 5:00 p.m. EDT.

Registration: Registration to attend the roundtable in person or via webcast is required by April 4, 2014. Additionally, members of the public who wish to participate in the roundtable as a speaker must do so by request in writing no later than March 27, 2014. See the “Event Registration Information” section of this notice for additional details on how to register.

Comments: Any member of the public, whether attending the roundtable or not, may submit written comments on any of the topics identified in part III of the Supplementary Information section, below, for consideration by the Office. Written comments must be received on or before April 25, 2014, to ensure consideration. Persons submitting written comments should note that the Office will not provide a response because this notice is not a notice of proposed rulemaking. Written comments should be sent by electronic mail addressed to CrowdsourcingRoundtable2014@uspto.gov. Comments also may be submitted by postal mail addressed to: Mail Stop Comments—Patents, Commissioner for Patents, P.O. Box 1450, Alexandria, VA 22313-1450, marked to the attention of Nicole Dretar Haines. Although comments may be submitted by postal mail, the Office prefers to receive comments by electronic mail.

Comments will be available for public inspection via the Office's Internet Web site at http://www.uspto.gov/patents/init_events/index.jsp, and at the Office of the Commissioner for Patents, located in Madison East, Tenth Floor, 600 Dulany Street, Alexandria, VA 22314, upon request. Because comments will be available for public inspection, information that is not desired to be made public, such as an address or phone number, should not be included in the comments.

ADDRESSES: The roundtable event will be held at the Office, Madison Auditorium South, Concourse Level, Madison Building, 600 Dulany Street, Alexandria, VA 22314.

Event Registration Information: Registration is required by April 4, 2014, to attend the roundtable in person or via Webcast. Additionally, members of the public who wish to participate in the roundtable as a speaker must do so by request in writing no later than March 27, 2014.

To register or request to present as a speaker, please send an email message to CrowdsourcingRoundtable2014@uspto.gov and provide the following information: (1) Your name, title, and if applicable, company or organization, address, phone number, and email address; (2) whether you wish to attend in person or via webcast; and (3) if you wish to make an oral presentation at the roundtable, which of the topics identified in part III of the SUPPLEMENTARY INFORMATION section, below, will be addressed and the approximate desired length of your presentation. Each attendee, even if from the same organization, must register separately.

Due to time constraints, the Office may not be able to accommodate all persons who wish to make a presentation. However, the Office will attempt to accommodate as many persons who wish to make a presentation as possible within the time constraints. After reviewing the list of speakers and the information regarding the presentations provided in the registration, the Office will contact each speaker prior to the event with the amount of time available and the approximate time that the speaker's presentation is scheduled to begin. The amount of time available for each presentation may be limited to ensure that all persons selected to speak will have a meaningful chance to do so. Speakers who opt to employ slides as part of their presentation must send final electronic copies of the slides in Microsoft PowerPoint to CrowdsourcingRoundtable2014@uspto.gov by April 4, 2014, so that the slides can be displayed at the roundtable. Additionally, the Office will provide an opportunity for persons in the audience not previously selected as speakers to speak at the roundtable without a formal presentation.

The Office plans to make the roundtable event available via webcast. Webcast information will be available on the Office's Internet Web site before the roundtable event at http://www.uspto.gov/patents/init_events/index.jsp.

If special accommodations due to a disability are needed, please inform the contact person(s) identified below.

FOR FURTHER INFORMATION CONTACT: Requests for additional information regarding registration and speaker presentations should be directed to the attention of Jack Harvey, Director, Technology Center 2800, by telephone at 571-272-8004, or by email to jack.harvey@uspto.gov. Requests for additional information regarding the topics for written comments and discussion at the roundtable event should be directed to Nicole Dretar Haines, Senior Legal Advisor, Office of Patent Legal Administration, by telephone at 571-272-7717, or by email to nicole.haines@uspto.gov.

SUPPLEMENTARY INFORMATION:

I. Purpose of Notice: This notice announces a roundtable event to solicit public input concerning the topics identified in part III, below, relating to the use of crowdsourcing and third-party preissuance submissions to identify relevant prior art and enhance the quality of examination as well as the quality of issued patents. Specifically, the Office is seeking comments on the potential uses of crowdsourcing during patent examination, as well as ways for increasing the quality and volume of third-party preissuance submissions. The public is invited to provide comments on these topics and to identify future topics for discussion.

II. Background: Over the past year, the Office has solicited ideas from the software community through the Software Partnership to enhance the quality of software-related patents. In response, the public has proposed crowdsourcing as a technique to expand the prior art available to examiners. Further, crowdsourcing prior art was identified as a means to strengthen patent quality in the executive actions announced by the White House on February 20, 2014. While crowdsourcing was suggested in the context of the Software Partnership, the Office is exploring strategies to use crowdsourcing to obtain relevant prior art and enhance the quality of examination across all technology areas. Information on the Software Partnership may be found at http://www.uspto.gov/patents/init_events/software_partnership.jsp and information on the White House executive actions is available at http://www.uspto.gov/patents/init_events/executive_actions.jsp.

Crowdsourcing has the potential to help examiners in certain technology areas, such as software, where information that resides within the technical community is often not readily available to examiners. Existing crowdsourcing Web sites have made use of third-party preissuance submissions to submit prior art to examiners. The preissuance submissions by third parties provision of the America Invents Act permits third parties to submit relevant prior art publications to patent examiners with a concise description of relevance. See Changes To Implement the Preissuance Submissions by Third Parties Provision of the Leahy-Smith America Invents Act, 77 FR 42150 (July 17, 2012). The Office is seeking ways to improve the quality and increase the volume of third-party submissions, and utilizing crowdsourcing may be one promising avenue for achieving these goals. Aside from increasing the quality and quantity of third-party submissions, the Office is exploring other ways that crowdsourcing may help examiners identify relevant prior art during examination and contribute to the quality of issued patents.

III. Topics for Written Comments and Discussion at the Roundtable Event: The Office seeks comments on the following topics regarding the current third-party submission process and ways the Office can use crowdsourcing to improve the quality of examination:

1. How can the Office leverage the collective knowledge available via crowdsourcing to provide an examiner with relevant prior art?

2. What suggestions do you have for the Office to encourage more third-party submissions from the scientific and technical community via crowdsourcing activities?

3. Aside from encouraging more third-party submissions, what are other ways the Office can leverage crowdsourcing to get relevant information from experts in the scientific and technical community to the examiner?

4. How can the Office encourage more third-party participation while ensuring that no protest or other form of pre-issuance opposition to the grant of a patent on an application is initiated after publication of the application?

5. What, if anything, is preventing you from submitting prior art as part of a third-party submission?

6. What other ideas do you have to ensure examiners have the most relevant prior art in front of them during examination?

The Office also seeks comments on any additional topics, not listed above, that might serve as a basis for future discussions regarding the current third-party submission process and ways the Office can use crowdsourcing to improve the quality of examination.

Dated: March 12, 2014.
Michelle K. Lee,
Deputy Under Secretary of Commerce for Intellectual Property and Deputy Director of the United States Patent and Trademark Office.

[FR Doc. 2014-05996 Filed 3-18-14; 8:45 am]

BILLING CODE 3510-16-P